DEPARTMENT OF TRANSPORTATION

Surface Transportation Board

[Docket No. AB 1076 (Sub-No. 1X)]

Caddo Valley Railroad Company—Abandonment Exemption—in Pike and Clark Counties, AR

On October 27, 2011, Caddo Valley Railroad Company (CVRR) filed with the Surface Transportation Board (Board) a petition under 49 U.S.C. 10502 for exemption from the provisions of 49 U.S.C. 10903 to abandon a segment of the Norman Branch Line extending between milepost 429.45, near Gurdon, and milepost 447, near Antoine, a distance of 17.55 miles, in Pike and Clark Counties, Ark. (the line).¹ The line traverses United States Postal Service Zip Codes 71943 and 71922, and includes the stations of Summit (milepost 433.1), Okolona (milepost 441.0), and Pike City Junction (milepost 446.5).

¹ On November 9, 2011, CVRR filed a letter with the Board attaching a letter dated October 7, 2011, from counsel for Arkansas Midland Railroad Company, Inc. (AKMD). AKMD notes that CVRR acquired the Norman Branch, which includes the line at issue here, from AKMD under the Board's feeder line statute at 49 U.S.C. 10907. See Caddo Antoine & Little Mo. R.R.—Feeder Line Acquis.—Ark. Midland R.R. Co. Line Between Gurdon & Birds Mill, Ark., 4 S.T.B. 326 (1999). AKMD further states that on September 29, 2011, AKMD reacquired from CVRR the segment of the Norman Branch between milepost 426.88 in Gurdon and milepost 429.45 north of Gurdon and, as part of the same transaction, waived its statutory right of first refusal with respect to the rest of the Norman Branch. See 49 U.S.C. 10907(h).

CVRR states that, based on information in CVRR's possession, the line does not contain Federally granted rights-of-way. Any documentation in CVRR's possession will be made available promptly to those requesting it.

The interest of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by February 14, 2012.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than December 6, 2011. Each trail request must be accompanied by a $250 filing fee. See 49 CFR 1002.2(f)(27).

All filings in response to this notice must refer to Docket No. AB 1076 (Sub-No. 1X), and must be sent to: (1) Surface Transportation Board, 395 E Street SW., Washington, DC 20423-0001; and (2) Richard H. Streeter, 5255 Partridge Lane NW., Washington, DC 20016. Replies to the petition are due on or before December 6, 2011.

Persons seeking further information concerning abandonment procedures may contact the Board's Office of Public Assistance, Governmental Affairs and Compliance at (202) 245-0238 or refer to the full abandonment regulations at 49 CFR pt. 1152. Questions concerning environmental issues may be directed to the Board's Office of Environmental Analysis (OEA) at (202) 245-0305. Assistance for the hearing impaired is available through the Federal Information Relay Service (FIRS) at 1-(800)-877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA generally will be within 30 days of its service.

Board decisions and notices are available on our Web site at http://www.stb.dot.gov.

Decided: November 10, 2011.
By the Board, Rachel D. Campbell, Director, Office of Proceedings.
Jeffrey Herzig,
Clearance Clerk.

[FR Doc. 2011-29592 Filed 11-15-11; 8:45 am]

BILLING CODE 4915-01-P